ENVIRONMENTAL PROTECTION AGENCY

[FRL-8334-5]

Notice of Disclosure of Confidential Business Information Obtained Under the Comprehensive Environmental Response, Compensation and Liability Act to Subcontractors of EPA Contractor U.S. Army Corps of Engineers: Science Applications International Corporation, Harry-Torchiana, and CACI, Inc.

AGENCY: Environmental Protection Agency.

ACTION: Notice, request for comment.

SUMMARY: The U.S. Environmental Protection Agency (“EPA”) hereby complies with the requirements of 40 CFR 2.310(h) for authorization to disclose confidential business information (“CBI”) submitted to EPA Region 9 pursuant to CERCLA to U.S. Army Corps of Engineers' contractors: Science Applications International Corporation (“SAIC”) of Santa Barbara, California; Harry-Torchiana of San Francisco, California; and CACI, Inc., of Arlington, Virginia.

DATES: Comments may be submitted by July 13, 2007.

ADDRESSES: Comments should be sent to: Keith Olinger, Environmental Protection Agency, Region 9, SFD-7-5, 75 Hawthorne Street, San Francisco, CA 94105, (415) 972-3125.

FOR FURTHER INFORMATION CONTACT: Keith Olinger, Superfund Division, Environmental Protection Agency, Region 9, SFD-7-5, 75 Hawthorne Street, San Francisco, CA 94105, (415) 972-3125.

Notice of Required Determinations, Contract Provisions and Opportunity to Comment

The Comprehensive Environmental Response, Compensation, and Liability Act of 1980 (“CERCLA”) as amended, (commonly known as “Superfund”) requires completion of enforcement activities at Superfund sites in concert with other site events. EPA has entered into several contracts for enforcement support in relation to the Operating Industries, Inc. Superfund Site: (1) Contract No. W91238-05-F-0062, issued to SAIC by the U.S. Army Corps of Engineers (“CoE”) pursuant to Interagency Agreement No. DW 96955495 between EPA and the CoE; (2) Contract No. W91238-07-C-0008 issued to Harry-Torchiana by the CoE pursuant to Interagency Agreement No. DW 96955495 between EPA and the CoE; and (3) Task Order 263 issued to CACI, Inc. under the U.S. Department of Justice's (“DOJ”) MEGA2ALS contract, Contract No. 02-C-0437, pursuant to Interagency Agreement No. DW-15-95566201-1 between EPA and DOJ. Enforcement support services will be provided to EPA by SAIC, Harry-Torchiana, and CACI, Inc. EPA has determined that disclosure of CBI to SAIC, Harry-Torchiana, CACI, Inc., and their respective employees, is necessary in order for these companies to carry out their respective work for EPA under their respective contracts with the CoE and DOJ, as applicable. The information EPA intends to disclose includes submissions made by Potentially Responsible Parties to EPA in accordance with EPA's enforcement activities at the Operating Industries Inc., Superfund Site. The information would be disclosed to the above-named contractors for any of the following reasons: to assist with document handling, inventory, and indexing; to assist with document review and analysis; to verify completeness; and to provide technical review of submittals. The respective contracts comply with all requirements of 40 CFR 2.310(h)(2). EPA Region 9 will require that each of the respective subcontractors' employees with access to CBI sign a written agreement that he or she: (1) Will use the information only for the purpose of carrying out the work required by the contract, (2) will refrain from disclosing the information to anyone other than EPA without prior written approval of each affected business or of an EPA legal office, and (3) will return to EPA all copies of the information (and any abstracts or extracts therefrom) upon request from the EPA program office, whenever the information is no longer required by the subcontractor for performance of the work required by the subcontract or upon completion of the subcontract.

Dated: April 6, 2007.
Keith Takata,
Director, Superfund Division, U.S. EPA, Region IX.

[FR Doc. E7-12877 Filed 7-2-07; 8:45 am]

BILLING CODE 6560-50-P